DEPARTMENT OF ENERGY

Biological and Environmental Research Advisory Committee

AGENCY: Office of Science, Department of Energy.

ACTION: Notice of renewal of the Biological and Environmental Research Advisory Committee.

SUMMARY: Pursuant to Section 14(a)(2)(A) of the Federal Advisory Committee Act (Pub. L. 92-463), and in accordance with Title 41, Code of Federal Regulations, Section 102-3.65(a), and following consultation with the Committee Management Secretariat, General Services Administration, notice is hereby given that the Biological and Environmental Research Advisory Committee will be renewed for a two-year period beginning December 14, 2011.

The Committee provides advice and recommendations to the Department of Energy on matters related to the Biological and Environmental Research programs.

Additionally, the renewal of the Biological and Environmental Research Advisory Committee has been determined to be essential to the conduct of the Department's mission and to be in the public interest in connection with the performance of duties imposed upon the Department of Energy by law and agreement. The Committee will operate in accordance with the provisions of the Federal Advisory Committee Act, and rules and regulations issued in implementation of that Act.

FOR FURTHER INFORMATION CONTACT: Dr. David Thomassen, Designated Federal Officer, by telephone at (301) 903-9817.

Issued in Washington, DC, on December 14, 2011.
Carol A. Matthews,
Committee Management Officer .

[FR Doc. 2011-32502 Filed 12-19-11; 8:45 am]

BILLING CODE 6450-01-P